DEPARTMENT OF ENERGY

Federal Energy Regulatory Commission

[Docket No. EL09-60-000]

Connecticut Municipal Electric Energy Cooperative, Massachusetts Municipal Wholesale Electric Company, Pascoag (RI) Utility District, Vermont Department of Public Service: Complainants v. ISO New England Inc.: Respondent; Notice of Complaint

June 12, 2009.

Take notice that on June 11, 2009, pursuant to section 206 of the Commission's Rules and Practice and Procedure, 18 CFR 385.206 and sections 206 and 306 of the Federal Power Act, 16 U.S.C. 824(e) and 825(e), Connecticut Municipal Electric Energy Cooperative, Massachusetts Municipal Wholesale Electric Company, Pascoag (RI) Utility District, and Vermont Department of Public Service (Complainants) filed a formal complaint against ISO New England Inc. (ISO-NE) challenging ISO-NE's decision to discontinue the reserve-margin “gross-up” for capacity credit purposes of firm power imported into New England from two hydroelectric power plants licensed to and operated by the New York Power Authority (NYPA).

The Complainants state that copies of the complaint were served on the contacts for ISO-NE as listed on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on July 1, 2009.

Kimberly D. Bose,
Secretary.

[FR Doc. E9-14451 Filed 6-18-09; 8:45 am]

BILLING CODE 6717-01-P